DEPARTMENT OF JUSTICE

Immigration and Naturalization Service

[INS No. 2215-02; AG Order No. 2602-2002]

RIN 1115-AE26

Extension of the Designation of Somalia Under the Temporary Protected Status Program

AGENCY: Immigration and Naturalization Service, Justice.

ACTION: Notice.

SUMMARY: The designation of Somalia under the Temporary Protected Status (TPS) Program will expire on September 17, 2002. This notice extends the Attorney General's designation of Somalia for 12 months until September 17, 2003, and sets forth procedures necessary for nationals of Somalia (or aliens having no nationality who last habitually resided in Somalia) with TPS to re-register for the additional 12-month period. Re-registration is limited to persons who both registered under the initial designation and also timely re-registered under each subsequent extension of designation, or who registered under the re-designation (which ends September 17, 2002). Nationals of Somalia (or aliens having no nationality who last habitually resided in Somalia) who previously have not applied for TPS may be eligible to apply under the late initial registration provisions.

EFFECTIVE DATES: The extension of the TPS designation for Somalia is effective September 17, 2002, and will remain in effect until September 17, 2003. The 60-day re-registration period begins July 26, 2002 and will remain in effect until September 24, 2002.

FOR FURTHER INFORMATION CONTACT: Emily Crowder Frazelle, Program Analyst, Residence and Status Branch, Immigration and Naturalization Service, 425 I Street, NW., Room 3040, Washington, DC 20536, telephone (202) 514-4754.

SUPPLEMENTARY INFORMATION:

What Authority Does the Attorney General Have To Extend the Designation of Somalia Under the TPS Program?

Section 244(b)(3)(A) of the Immigration and Nationality Act (the Act) states that at least 60 days before the end of a designation, or any extension thereof, the Attorney General must review conditions in the foreign state for which the designation is in effect. 8 U.S.C. 1254a(b)(3)(A). If the Attorney General does not determine that the foreign state no longer continues to meet the conditions for designation, the period of designation is extended automatically for 6 months pursuant to section 244(b)(3)(C) of the Act, although the Attorney General may exercise his discretion to extend the designation for a period of 12 or 18 months. 8 U.S.C. 1254a(b)(3)(C).

Why Did the Attorney General Decide To Extend the TPS Designation for Somalia?

On September 16, 1991, the Attorney General designated Somalia under the TPS program (56 FR 46804). Since that time, the Departments of Justice and State have continuously reviewed conditions in Somalia, most recently extending and re-designating Somalia under the TPS program on September 4, 2001 (66 FR 46288).

A recent Department of State report found that “[o]pen conflict remains a fact of life in southern Somalia, where numerous actors compete for land and power. While the two northern regions of Somalia are more stable, their security is jeopardized by the instability in the south.” State Department Report (May 16, 2001) (State Department Report). There has been no central authority controlling Somalia since 1991. Immigration and Naturalization Service's (INS) Resource Information Center (RIC) Report (May 14, 2002). Although a peace process led to the establishment of a Transitional National Government (TNG), the “legitimacy of the transitional administration * * * has been strongly contested by several local militias, as well as by the de facto governments that pre-date the TNG in the northern part of the country. Leaders in Puntland have publicly stated that they do not recognize the TNG, while Somaliland has openly sought international recognition on its own since 1991. Many TNG officials have been threatened or killed; an atmosphere of lawlessness continues.” State Department Report.

Fighting in the Gedo region in southern Somalia has continued throughout 2002. The Department of State reports that “[f]ighting in April result[ed] in a new outflow of an estimated 5,000 refugees into Kenya. The use of landmines in the region is also increasing. Hundreds of families were displaced in February in this region as a result of fighting between the Somali Restoration and Reconciliation Council and the Juba Valley Alliance. There is also reporting that Puntland, previously considered to be relatively stable, is becoming increasing [sic] insecure.” State Department Report.

The United Nations Secretary-General reported in February 2002 that “Somalia remains one of the most dangerous environments in which the United Nations operates,” and concluded that the conditions do not currently exist to re-establish a comprehensive peace-building programme in Somalia. Report of the Secretary-General on the situation in Somalia (February 21, 2002). Such reports indicate that ongoing, armed conflict continues to threaten seriously the personal safety of those living and working in Somalia.

Based on this review, the Attorney General, after consultation with appropriate government agencies, finds that the conditions that prompted designation of Somalia under the TPS program continue to be met. 8 U.S.C. 1254a(b)(3)(A). There is an ongoing armed conflict within Somalia and, due to such conflict, requiring the return of aliens who are nationals of Somalia (or aliens having no nationality who last habitually resided in Somalia) would pose a serious threat to their personal safety. 8 U.S.C. 1254a(b)(1)(A). Furthermore, there exist extraordinary and temporary conditions in Somalia that prevent nationals of Somalia (and aliens having no nationality who last habitually resided in Somalia) from returning home in safety. 8 U.S.C. 1254a(b)(1)(C). Finally, permitting nationals of Somalia to remain temporarily in the United States is not contrary to the national interest of the United States. Id. On the basis of these findings, the Attorney General concludes that the TPS designation for Somalia should be extended for an additional 12-month period. 8 U.S.C. 1254a(b)(3)(C).

If I Currently Have TPS Benefits Through the Somalia TPS Program, Do I Still Re-Register for TPS?

Yes. If you have already have TPS benefits through the Somalia TPS program, your benefits will expire on September 17, 2002. Accordingly, you must re-register for TPS in order to maintain your benefits through September 17, 2003. See the following re-registration instructions. TPS benefits include temporary protection against removal from the United States, as well as work authorization, during the TPS designation period and any extension thereof. 8 U.S.C. 1254a(a)(1).

If I Am Currently Registered for TPS, How Do I Re-Register for an Extension?

All persons previously granted benefits under the Somalia TPS program who wish to maintain such benefits must apply for an extension by filing (1) a Form I-821, Application for Temporary Protected Status, without the $50 filing fee; (2) a Form I-765, Application for Employment Authorization; and (3) two identification photographs (1½ inches × 1½ inches). See the chart below to determine whether you must submit the one hundred and twenty dollar ($120) filing fee with Form I-765. Applicants for an extension of TPS benefits do not need to be re-fingerprinted and thus need not pay the fifty dollar ($50) fingerprint fee. Children beneficiaries of TPS who have reached the age of fourteen (14) but were not previously fingerprinted must pay the $50 fingerprint fee with the application for extension.

Submit the completed forms and applicable fee, if any, to the INS district office having jurisdiction over your place of residence during the 60-day re-registration period that begins on July 26, 2002 and ends on September 24, 2002 (inclusive of such end date).

If | Then
You are applying for an Employment Authorization Document that is valid through September 17, 2003 | You must complete and file the Form I-765, Application for Employment Authorization, with the $120 fee.
You already have an Employment Authorization Document or do not require such a document | You must complete and file Form I-765 with no fee.
You are applying for an Employment Authorization Document and are requesting a fee waiver | You must complete and file: (1) Form I-765 with no fee, and (2) a fee waiver request and affidavit (and any other information) in accordance with 8 CFR 244.20.

How Does an Application for TPS Affect My Application for Asylum or Other Immigration Benefits?

An application for TPS does not affect an application for asylum or any other immigration benefit. A national of Somalia (or alien having no nationality who last habitually resided in Somalia) who is otherwise eligible for TPS and has applied for, or plans to apply for asylum but who has not yet been granted asylum or withholding of removal, may also apply for TPS. Denial of an application for asylum or any other immigration benefit does not affect an applicant's eligibility to apply for TPS, although the grounds for denying one form of relief may also be grounds for denying TPS. For example, a person who has been convicted of a particularly serious crime is not eligible for asylum or TPS. 8 U.S.C. 1158(b)(2); 8 U.S.C. 1254a(c)(2)(B)(i).

Does This Extension Allow Nationals of Somalia (or Aliens Having no Nationality Who Last Habitually Resided in Somalia) Who Entered the United States After September 4, 2001, to Apply for TPS?

No. This is a notice of an extension of the TPS designation for Somalia, not a notice of re-designation of Somalia under the TPS program. An extension of TPS does not change the required dates of continuous residence and continuous physical presence in the United States. This extension does not expand TPS availability to include nationals of Somalia (or aliens having no nationality who last habitually resided in Somalia) who have not been continuously physically present in, and have not continuously resided in, the United States since September 4, 2001.

Is Late Initial Registration Possible?

Yes. Some persons may be eligible for late initial registration under 8 CFR 244.2. To apply for late initial registration an applicant must:

(1) Be a national of Somalia (or alien who has no nationality and who last habitually resided in Somalia);

(2) Have been continuously physically present in the United States since September 4, 2001;

(3) Have continuously resided in the United States since September 4, 2001; and

(4) Be both admissible as an immigrant, except as provided under section 244(c)(2)(A) of the Act, and not ineligible under section 244(c)(2)(B) of the Act.

Additionally, the applicant must be able to demonstrate that during the registration period from September 4, 2001, through September 17, 2002, he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant. 8 CFR 244.2(f)(2).

An applicant for late initial registration must file an application for late registration within a 60-day period immediately following the expiration or termination of the conditions described above. 8 CFR 244.2(g).

Notice of Extension of Designation of Somalia Under the TPS Program

By the authority vested in me as Attorney General under sections 244(b)(1), (b)(3)(A), and (b)(3)(C) of the Act, I have consulted with the appropriate government agencies and determine that the conditions that prompted designation of Somalia for TPS continue to be met. 8 U.S.C. 1254a(b)(3)(A). Accordingly, I order as follows:

(1) The designation of Somalia under section 244(b) of the Act is extended for an additional 12-month period from September 17, 2002, to September 17, 2003. 8 U.S.C. 1254a(b)(3)(C).

(2) As of July 12, 2002, there are approximately 250 nationals of Somalia (or aliens having no nationality who last habitually resided in Somalia) who are eligible for re-registration.

(3) To maintain TPS, a national of Somalia (or an alien having no nationality who last habitually resided in Somalia) who previously has applied for or received TPS benefits must re-register for TPS during the 60-day re-registration period from July 26, 2002 until September 24, 2002.

(4) To re-register, the applicant must file the following: (1) Form I-821, Application for Temporary Protected Status; (2) Form I-765, Application for Employment Authorization; and (3) two identification photographs (1½ inches by 1½ inches). There is no fee for a Form I-821 filed as part of the re-registration application. If the applicant requests employment authorization documentation, he or she must submit one hundred and twenty dollars ($120) or a properly documented fee waiver request, pursuant to 8 CFR 244.20, with the Form I-765. An applicant who does not request employment authorization documentation must nonetheless file Form I-765 along with Form I-821, but is not required to submit the fee. The fifty-dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) At least 60 days before this extension terminates on September 17, 2003, the Attorney General will review the designation of Somalia under the TPS program and determine whether the conditions for designation continue to be met. 8 U.S.C. 1254a(b)(3)(A). Notice of that determination, including the basis for the determination, will be published in the Federal Register. 8 USC 1254a(b)(3)(A).

(6) Information concerning the extension of designation of Somalia under the TPS program will be available at local INS offices upon publication of this notice and the INS National Customer Service Center at 1-800-375-5283. This information will also be published on the INS Web site at http://www.ins.usdoj.gov.

Dated: July 19, 2002.
John Ashcroft,
Attorney General.

[FR Doc. 02-18897 Filed 7-25-02; 8:45 am]

BILLING CODE 4410-10-P